DEPARTMENT OF ENERGY

Federal Energy Regulatory Commission

[Docket No. RP08-27-000]

Southern California Generation Coalition, Complainant, v. Southern California Gas Company, Respondent; Notice of Complaint

October 23, 2007.

Take notice that on October 22, 2007, the Southern California Generation Coalition (SCGC) filed a formal complaint against Southern California Gas Company (SoCalGas) pursuant to section 5 of the Natural Gas Act (NGA), 15 U.S.C. 171d, and Rule 206 of the Federal Energy Regulatory Commission's (Commission) Rules of Practice and Procedure, 18 CFR 385.206. SCGC alleges that SoCalGas has received California Public Utilities Commission (CPUC) approval to charge and, absent Commission intervention, will charge and intrastate fee for access to its intrastate pipeline system in violation of the Supremacy Clause of the United States Constitution, the NGA, the Commission's rules and regulations and under the NGA, and Commission precedent.

SCGC certifies that copies of the complaint were served on counsel for SoCalGas as listed in the CPUC proceeding because SoCalGas is not listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 13, 2007.

Kimberly D. Bose,
Secretary.

[FR Doc. E7-21228 Filed 10-25-07; 8:45 am]

BILLING CODE 6717-01-P